ENVIRONMENTAL PROTECTION AGENCY

40 CFR Part 52

[WA-01-003; FRL-7881-9]

Approval and Promulgation of State Implementation Plans; State of Washington; Spokane Carbon Monoxide Attainment Plan

AGENCY: Environmental Protection Agency (EPA).

ACTION: Proposed rule.

SUMMARY: The EPA invites public comment on its proposal to approve Washington State Implementation Plan (SIP) revisions submitted to EPA by the State of Washington on September 20, 2001, September 26, 2001 and November 22, 2004. The revisions consist of changes to the State of Washington Inspection and Maintenance Program and a Plan for attaining carbon monoxide (CO) National Ambient Air Quality Standards (NAAQS) in the Spokane Serious CO Nonattainment Area.

The EPA also invites public comment on its proposal to approve certain source-specific SIP revisions relating to Kaiser Aluminum and Chemical Corporation.

DATES: Written comments must be received by April 7, 2005.

ADDRESSES: Submit your comments, identified by Docket ID No. WA-01-003, by one of the following methods:

• Federal eRulemaking Portal: http://www.regulations.gov. Follow the on-line instructions for submitting comments.

• E-mail: R10aircom@epa.gov.

• Fax: (206)-553-0110.

• Mail: Office of Air, Waste, and Toxics, Environmental Protection Agency, Mail code: OAWT-107, 1200 Sixth Ave., Seattle, Washington 98101.

• Hand Delivery: Environmental Protection Agency, Office of Air, Waste, and Toxics, OAWT-107, 9th Floor, 1200 Sixth Ave., Seattle, Washington 98101. Such deliveries are only accepted during normal hours of operation, and special arrangements should be made for deliveries of boxed information.

Instructions: Direct your comments to Docket ID No. WA-01-003. EPA's policy is that all comments received will be included in the public docket without change, including any personal information provided, unless the comment includes information claimed to be Confidential Business Information (CBI) or other information whose disclosure is restricted by statute. Do not submit information that you consider to be CBI or otherwise protected through regulations.gov, or e-mail. The federal regulations.gov Web site is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to I. General Information in the SUPPLEMENTARY INFORMATION section of this document.

Docket: Publicly available docket materials are available in hard copy at the Office of Air, Waste, and Toxics, EPA Region 10, Mail code: OAWT-107, 1200 Sixth Ave., Seattle, Washington 98101, open from 8 a.m.-4:30 p.m. Monday through Friday, excluding legal holidays. The telephone number is (206) 553-4273. Copies of the State's request and other information relevant to this action are also available at the State of Washington Department of Ecology, P.O. Box 47600, Olympia, Washington, 98504-7600.

FOR FURTHER INFORMATION CONTACT: Connie Robinson, Office of Air, Waste and Toxics (OAWT-107), EPA, 1200 Sixth Avenue, Seattle, Washington 98101, (206) 553-4273.

SUPPLEMENTARY INFORMATION: Throughout this document, wherever “we,” “us,” or “our” is used, we mean the EPA. Information is organized as follows:

Table of Contents

I. General Information

II. Background Information

A. What NAAQS Is Considered in Today's Proposal?

B. What Is the History Behind This Proposal?

C. What Statutory, Regulatory, and Policy Requirements Must be Met to Approve This Proposal?

III. EPA's Review of the Spokane CO Plan

A. Does the Spokane CO Plan Meet All the Procedural Requirements as Required by Section 110(a)(2) of the Clean Air Act (the Act)?

B. Does the Spokane CO Plan Include a Comprehensive, Accurate, Current Base Year Inventory From All Sources as Required in Sections 172(c)(3) and 187(a)(1)?

C. Does the Spokane CO Plan Include Periodic Inventories as Required in Section 187(a)(5) of the Act?

D. Does the Spokane CO Plan Meet the Requirement of Section 187(a)(7) of the Act That Serious CO Areas Submit an Attainment Demonstration Which Includes Annual Emissions Reductions Necessary for Reaching Attainment by the Deadline?

E. Has Spokane Adopted Transportation Control Measures (TCMs) for the Purpose of Reducing CO Emissions as Required by Sections 182(d)(1) and 187(b)(2) and Described in Section 108(f)(1)(A) of the Act?

F. Does the Spokane CO Plan Include a Forecast of Vehicle Miles Traveled (VMT) for Each Year Before the Attainment Year of 2000 as Required by Section 187(a)(2)(A) of the Act?

G. Does the Spokane CO Plan Include Contingency Measures as Required by Section 187(a)(3) of the Act?

H. Is the Motor Vehicle Emission Budget Approvable as Required by Section 176(c)(2)(A) of the Act and Outlined in Conformity Rule 40 CFR 93.118(e)(4)?

I. Does Spokane Have an I/M Program in Place That Meets the Requirements in Sections 182(a)(2)(B) and 187(a)(6) of the Act?

J. Are There Controls on Stationary Sources of CO as Required by Section 172(c)(5) of the Act?

K. Has Spokane Implemented an Oxygenated Fuel Program as Described in Section 187(b)(3) of the Act?

IV. EPA's Evaluation of the Washington Inspection and Maintenance (I/M) Program Revision

A. What is Being Revised in the Washington I/M Program?

B. Have All the Procedural Requirements for Approval of This Revision Been Met?

C. How Does This Revision to the Washington I/M Program Affect the Attainment Demonstration for the Spokane CO Serious Nonattainment Area?

V. Kaiser Aluminum and Chemical Corporation, Administrative Orders

VI. Summary of EPA's Proposals

VII. Statutory and Executive Order Reviews

I. General Information

What Should I Consider as I Prepare My Comments for EPA?

1. Submitting Confidential Business Information (CBI). Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2.

2. Tips for Preparing Your Comments. When submitting comments, remember to:

i. Identify the rulemaking by docket number and other identifying information (subject heading, Federal Register date and page number).

ii. Follow directions—The agency may ask you to respond to specific questions or organize comments by referencing a CFR part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Background Information

A. What NAAQS Is Considered in Today's Proposal?

CO is among the ambient air pollutants for which EPA has established a health-based standard and is the pollutant that is the subject of this action. CO is a colorless, odorless gas emitted in combustion processes. CO enters the bloodstream through the lungs and reduces oxygen delivery to the body's organs and tissues. Exposure to elevated CO levels is associated with impairment of visual perception, work capacity, manual dexterity, and learning ability, and with illness and death for those who already suffer from cardiovascular disease, particularly angina or peripheral vascular disease.

Under section 109(a)(1)(A) of the Act, we have established primary, health-related NAAQS for CO: 9 parts per million (ppm) averaged over an 8-hour period, and 35 ppm averaged over 1 hour. Spokane has never exceeded the 1-hour NAAQS; therefore, the Spokane CO Plan and this proposal address only the 8-hour CO NAAQS. Attainment of the 8-hour CO NAAQS is achieved if not more than one non-overlapping 8-hour average per monitoring site exceeds 9 ppm (values below 9.5 are rounded down to 9.0 and are not considered exceedances) in either year of a consecutive 2-year period.

The area has been monitoring ambient air for CO levels since the early 1980's. In 1987, the Spokane area recorded 87 exceedances of the 8-hour NAAQS; however, the area has recorded no violations of the standard since 1995.

B. What Is the History Behind This Proposal?

Upon enactment of the 1990 Clean Air Act Amendments (the Act), areas meeting the requirements of section 107(d) of the Act were designated nonattainment for CO by operation of law. Under section 186(a) of the Act, each CO nonattainment area was also classified by operation of law as either moderate or serious depending on the severity of the area's air quality problems. Spokane was classified as a moderate CO nonattainment area. Moderate CO nonattainment areas were expected to attain the CO NAAQS as expeditiously as practicable but no later than December 31, 1995. If a moderate CO nonattainment area was unable to attain the CO NAAQS by December 31, 1995, the area was reclassified as a serious CO nonattainment area by operation of law. Spokane was unable to meet the CO NAAQS by December 31, 1995, and was reclassified as a serious nonattainment area effective April 13, 1998.

Spokane monitored 2 years of clean data to attain the standard by December 31, 2000, the required attainment date for all serious CO areas. Therefore, EPA made a determination that Spokane attained the CO NAAQS by the attainment date deadline (66 FR 44060, August 22, 2001).

On September 20, 2001, the Washington State Department of Ecology (Ecology) submitted the Spokane CO Plan as a revision to the Washington SIP. On November 22, 2004, Ecology submitted an addendum to the Spokane CO Plan to replace a TCM commitment which they had not been able to implement.

C. What Statutory, Regulatory, and Policy Requirements Must be Met To Approve This Proposal?

Section 172 of the Act contains general requirements applicable to SIP revisions for nonattainment areas. Sections 186 and 187 of the Act set out additional air quality planning requirements for CO nonattainment areas.

EPA has issued a “General Preamble” describing the agency's preliminary views on how EPA intends to review SIP revisions submitted under Title I of the Act. See generally 57 FR 13498 (April 16, 1992) and 57 FR 18070 (April 28, 1992). The reader should refer to the General Preamble for a more detailed discussion of the interpretations of Title I requirements. In this proposed rulemaking, we are applying these policies to the Spokane CO Plan, taking into consideration the specific factual issues presented.

III. EPA's Review of the Spokane CO Plan

A. Does the Spokane CO Plan Meet All the Procedural Requirements as Required by Section 110(a)(2) of the Clean Air Act (the Act)?

Yes. The Act requires States to observe certain procedural requirements in developing implementation plans for submission to EPA. Section 110(a)(2) of the Act provides that each implementation plan submitted by a State must be adopted after reasonable notice and public hearing. Public noticing for public meetings held on August 28, 2001, and October 26, 2004, occurred through advertisements in the Spokesman Review and the Washington State Register. The SIP submittal includes a hearing summary and notes that during the public meetings no public testimony was offered. Written comments were received from the public and included in the submittal along with the response developed by Ecology staff. Following the required public participation, the State adopted the Spokane CO Plan on September 19, 2001, and the addendum on November 17, 2004. The Spokane CO Plan demonstrates it has met the procedural requirements of section 110(a)(2) of the Act.

B. Does the Spokane CO Plan Include a Comprehensive, Accurate, Current Base Year Inventory From All Sources as Required in Sections 172(c)(3) and 187(a)(1)?

Yes. Spokane submitted a 1996 base year emissions inventory in the Spokane CO Plan consistent with our guidance documents. The motor vehicle emission factors used in the plan were generated by the MOBILE5b program. The base year inventory is an estimate of actual emissions representative of a typical peak CO season day. The table below contains a detailed listing of average daily, CO season emissions by source category.

Table 1.—1996 Base Year Emissions
Emission category | Point sources | Area sources | Non-road mobile sources | On-road mobile sources | Total emissions (tons/day)
Base Year 1996 | 79.9 | 70.4 | 31.3 | 167.2 | 348.8

The methodologies used to prepare the base year emissions inventory, as described in the Spokane CO Plan, are acceptable. The inventory meets base year emissions inventory requirements of sections 172(c)(3) and 187(a)(1) of the Act and is approvable. A discussion of how the inventory meets the requirements for approval is in the technical support document (TSD) for this proposal. Detailed inventory data is contained in the docket maintained by EPA.

C. Does the Spokane CO Plan Include Periodic Inventories as Required in Section 187(a)(5) of the Act?

Yes. Section 187(a)(5) of the Act requires the submission of periodic emission inventories at 3-year intervals until an area is redesignated to attainment. Ecology submitted the Spokane 1999 periodic emission inventory in September 2001, and submitted the 2002 periodic emission inventory on November 29, 2004, as the base year inventory in their Spokane CO Maintenance Plan. Ecology has agreed to submit periodic inventories at 3-year intervals until Spokane is redesignated to attainment.

D. Does the Spokane CO Plan Meet the Requirement of Section 187(a)(7) of the Act That Serious CO Areas Submit an Attainment Demonstration Which Includes Annual Emissions Reductions Necessary for Reaching Attainment by the Deadline?

Yes. The Spokane CO Plan contains an attainment demonstration that includes both an area-wide and a hot-spot modeling analysis at heavily-traveled intersections. The area-wide modeling is used to assess the cumulative impact of all sources of CO in an urban area. The modeled concentrations define the background CO concentration. The intersection modeling assesses the direct impact of traffic on CO concentrations at intersections.

The area-wide modeling resulted in two key findings. First, the modeling results indicated that elevated CO concentrations generally occur in the grids covering Spokane's central business district (CBD) where major traffic intersections with significant congestion exist. CO levels appear to rise and fall with traffic activity in the CBD. Secondly, the Kaiser Aluminum and Chemical Corporation, Mead Works aluminum smelter appeared at times to contribute significantly to widespread elevated CO concentrations. Since the modeled concentration was close to the CO standard of 9 ppm, Kaiser was required to verify that CO exceedances were not occurring on the hilltop to the southeast of the plant during smelter operations. See section V. Kaiser Aluminum and Chemical Corporation Administrative Orders.

Microscale intersection modeling was conducted for seven intersections within the CBD. These seven intersections were selected based on their level of service, congestion volume, and potentials for elevated levels of CO buildup. Only one intersection failed to demonstrate attainment of the 8-hour CO NAAQS of 9 ppm. However, with inclusion of the TCM implementation at Third Avenue & Washington Street, the modeled results demonstrate attainment. See Table 2.

Table 2.—Intersection Maximum Predicted 8-Hour CO Levels (ppm)
Intersection | CAL3QHCR+UAM maximum 8-hour average (ppm): Uncontrolled | CAL3QHCR+UAM maximum 8-hour average (ppm): Controlled
Third Avenue & Washington | 9.38 | 8.93 with TCM.
Hamilton St. & Sharp | 8.71 | Not affected by TCM.
Second Avenue & Browne | 8.08 | Not affected by TCM.
Third Avenue & Browne | 8.68 | Not affected by TCM.
Second Avenue & Division | 8.59 | Not affected by TCM.
Third Avenue & Division | 7.59 | Not affected by TCM.
Northwest Blvd. & Indiana | 8.76 | Not affected by TCM.

Attainment of the standard in 2000 is demonstrated for all analyzed intersections. A detailed description of all the control measures used to demonstrate attainment, including those previously approved, is contained in the TSD for this proposal.

E. Has Spokane Adopted Transportation Control Measures (TCMs) for the Purpose of Reducing CO Emissions as Required by Sections 182(d)(1) and 187(b)(2) and Described in Section 108(f)(1)(A) of the Act?

Yes. Sections 182(d)(1) and 187(b)(2) of the Act require states with serious CO nonattainment areas to submit a SIP revision that includes transportation control strategies and measures to offset any growth in emissions due to growth in VMT or vehicle trips. In developing such strategies, a state must consider measures specified in section 108(f)(1)(A) of the Act and choose and implement such measures as are necessary to demonstrate attainment with the NAAQS. TCMs are designed to reduce mobile pollutant emissions by either improving transportation efficiency or reducing single-occupant vehicle trips.

The TCM that is used in the Spokane CO attainment demonstration adds a new left turn channel on eastbound Third Avenue at Washington Street. The TCM focuses on geometric improvements at the intersection designed to accommodate left turns and prevent an exceedance during worse case wintertime conditions. The EPA has reviewed the TCM in the Spokane CO Plan and is proposing to approve it.

F. Does the Spokane CO Plan Include a Forecast of Vehicle Miles Traveled (VMT) for Each Year Before the Attainment Year of 2000 as Required by Section 187(a)(2)(A) of the Act?

Yes. The Spokane Regional Transportation Council (SRTC) developed the daily VMT forecasts for the period 1993 to 2000 using a network-based travel demand model. The Transportation Data Office of the Washington State Department of Transportation developed the estimates of actual VMT from the Highway Performance Monitoring System (HPMS) data. Tracking results presented in the Spokane CO Plan demonstrate that actual VMT is consistently less than forecasted.

SRTC has committed to prepare annual VMT estimates and forecasts and to submit these reports (“VMT tracking reports”) to Ecology for submittal to EPA until Spokane is redesignated to attainment. Under section 187(a)(3) of the Act, annual VMT tracking reports provide a potential basis for triggering implementation of contingency measures in the event that estimates of actual VMT exceed the forecasts contained in the prior annual VMT tracking report.

G. Does the Spokane CO Plan Include Contingency Measures as Required by Section 187(a)(3) of the Act?

Section 187(a)(3) of the Act requires serious CO nonattainment areas, such as Spokane, to submit a plan that provides for contingency measures. The Act specifies that such measures are to be implemented if any estimate of actual VMT submitted in an annual VMT tracking report exceeds the VMT predicted in the most recent prior forecast or if the area fails to attain the NAAQS by the attainment date. As a general rule, contingency measures must be structured to take effect without further action by the State or EPA upon the occurrence of certain triggering events.

The Spokane CO Plan includes contingency measures that meet the requirements of section 187(a)(3) of the Act. If Spokane exceeds the ambient CO standard, two contingency measures have been established to provide additional emission reduction. The two contingency measures are channelization on Browne Street, and signage improvements on Division Street. Both measures have been modeled to show a reduction in CO concentrations by improving traffic flow.

In addition, in the event that Spokane's actual VMT exceeds the forecasted VMT, a contingency measure has been established to provide emission reductions. The measure is a voluntary no-drive day program called Air Watch. The measure focuses on notifying the public of poor air quality days and encourages alternatives to single occupancy vehicles. Public education along with daily CO forecasts for the following day and drive times and funds for free bus rides are used to encourage motorists to reduce their use of motor vehicles on bad air quality days. Air Watch reduces actual VMT and resulting emissions on the worst air quality days. This contingency measure is structured to take effect without any further action by the State or EPA. In fact, Spokane is currently implementing this measure on bad air quality days.

States may implement contingency measures early to obtain additional emission reductions without being required to adopt replacement contingency measures to put in place should one of the triggering events for implementation of contingency measures occur. This policy is described in a memorandum from Tom Helms, Chief of the OAQPS Ozone Policy and Strategies Group entitled “Early Implementation of Contingency Measures for Ozone and Carbon Monoxide Nonattainment Areas,” August 13, 1993.

H. Is the Motor Vehicle Emission Budget Approvable as Required by Section 176(c)(2)(A) of the Act and Outlined in Conformity Rule 40 CFR 93.118(e)(4)?

EPA found the Spokane 2001 motor vehicle emissions budget (MVEB) adequate for conformity purposes in 67 FR 69740, November 19, 2002. Section 176(c)(2)(A) of the Act requires regional transportation plans to be consistent with the MVEB contained in the applicable air quality plan for the area. The MVEB for 2001 is as follows:

Spokane 2001 Motor Vehicle Emissions Budget
Source category | CO emissions (pounds/winter weekday)
On-Road Sources—Total Rural | 633
On-Road Sources—Total Urban | 268,238
Motor Vehicle Emissions Budget | 268,871

The TSD summarizes how the 2001 MVEB meets the criteria contained in the conformity rule (40 CFR 93.118(e)(4)). EPA is proposing approval of the 2001 MVEB.

I. Does Spokane Have an I/M Program in Place That Meets the Requirements in Sections 182(a)(2)(B) and 187(a)(6) of the Act?

Yes. EPA previously approved the Washington I/M program (61 FR 50235, September 25, 1996). Ecology submitted a SIP revision on September, 26, 2001, to two sections of 173-422 WAC, Motor Vehicle Emission Inspection, to provide an inspection schedule for motor vehicles between five and 25 years old. Vehicles less than five years old and more than twenty-five years are exempt beginning January 1, 2000. See section IV below.

J. Are There Controls on Stationary Sources of CO as Required by Section 172(c)(5) of the Act?

Yes. Section 172(c)(5) of the Act requires states with nonattainment areas to include in their SIPs a permit program for the construction and operation of new or modified major stationary sources in nonattainment areas. In a separate, prior action, we approved the new source review permit program for Washington. (See 60 FR 28726, June 2, 1995.)

K. Has Spokane Implemented an Oxygenated Fuel Program as Described in Section 187(b)(3) of the Act?

Yes. In a separate, prior action, we approved the oxygenated gasoline program for Spokane (59 FR 2994, January 20, 1994). However, in the 1995 attainment year, the 8-hour CO standard was exceeded four times at the monitor located at the intersection of Third & Washington. An April 24, 1996, letter from EPA Region 10 informed Ecology that Spokane had not met the CO standard. As a result of EPA's letter, SCAPCA implemented the contingency measure specified in the moderate attainment plan. The measure requires the maximum allowable oxygenate in wintertime gasoline beginning with the 1996-1997 CO season. This requirement raised the amount of ethanol, the oxygenate normally used in Spokane, to 3.5 percent by weight.

IV. EPA's Evaluation of the Washington Inspection and Maintenance (I/M) Program Revision

A. What Is Being Revised in the Washington I/M Program?

On September 26, 2001, Washington Department of Ecology submitted a revision to the State Implementation Plan (SIP) for the state of Washington. The revision is to two sections of 173-422 WAC, Motor Vehicle Emission Inspection, to provide an inspection schedule for motor vehicles between five and 25 years old. Vehicles less than five years old and more than twenty-five years old are exempt. The testing schedule and exemption provisions are changed accordingly. This rule revision addresses when different model-year vehicles are required to have an emission inspection.

B. Have All the Procedural Requirements for Approval of This Revision Been Met?

The Act requires states to observe certain procedural requirements in developing revisions for submission to EPA. Public noticing for a public meeting held on August 28, 2001, occurred through advertisements in the Spokesman Review and the Washington State Register. The SIP submittal notes that during the public meeting no public testimony was offered. Following the required public participation, the State adopted the I/M revision on September 26, 2001. The State submittal has met the public notice requirements for SIP submissions in accordance with 40 CFR 51.102.

C. How Does This Revision to the Washington I/M Program Affect the Attainment Demonstration for the Spokane CO Serious Nonattainment Area?

Ecology and SRTC evaluated the impact of the modified new car exemption on the attainment demonstration. The result was an estimated CO concentration of 8.93 ppm at the intersection with the highest modeled concentration (Third & Washington). Since the estimated CO concentration remained below the CO standard, the dispersion modeling continues to demonstrate attainment. We are proposing approval of the revision in this Federal Register.

V. Kaiser Aluminum and Chemical Corporation, Administrative Orders

In order to analyze Kaiser Aluminum and Chemical Corporation, Mead Works' contribution to the elevated CO level described in Section III D, Ecology used screening and refined modeling techniques for point source analysis (40 CFR 51 Appendix W, 6.2.d.). Results of this analysis indicated a maximum total 8-hour modeled concentration of 8.6 ppm on the hilltop to the southeast of the Kaiser smelter (CO standard is 9 ppm). Therefore, Kaiser, through enforceable Administrative Order No. DE 01AQIS-3285 dated October 24, 2001, was only required to verify that CO exceedances were not occurring on the hilltop. In December 2000, Kaiser fully curtailed its primary aluminum production operations at Mead Works. Due to the full curtailment of the facility, Ecology approved a nearby existing ambient air monitoring location as being satisfactory for gathering background ambient CO concentration levels. On April 9, 2003, Ecology approved Administrative Order No. DE 01AQIS-3285, Amendment #1 allowing Kaiser the option to terminate the collection of data during curtailment once 2 years of background data was collected. The Order requires Kaiser Mead Works to resume monitoring and reporting of ambient CO concentrations at a site approved by Ecology if and when primary aluminum production is resumed at the site. In this action, EPA is proposing approval of Kaiser Mead Works Administrative Order No. DE 01AQIS-3285 and Administrative Order No. DE 01AQIS-3285, Amendment #1.

VI. Summary of EPA's Proposal

We are proposing to approve the following elements of the Spokane CO Attainment Plan, submitted on September 20, 2001 and November 22, 2004:

A. Procedural requirements, under section 110(a)(2) of the Act;

B. Base year emission inventory, under sections 172(c)(3) and 187(a)(1) and periodic inventories under 187(a)(5) of the Act;

C. Attainment demonstration, under section 187(a)(7) of the Act;

D. The TCM program under 187(b)(2), 182(d)(1) and 108(f)(1)(A) of the Act;

E. VMT forecasts under section 187(a)(2)(A) of the Act;

F. Contingency measures under section 187(a)(3) of the Act;

G. The conformity budget under section 176(c)(2)(A) of the Act and § 93.118 of the transportation conformity rule (40 CFR part 93, subpart A).

H. Administrative Order No. DE 01AQIS-3285 and Order No. DE 01AQIS-3285, Amendment #1 relating to Kaiser Aluminum and Chemical Corporation, Mead Works.

We are also proposing to approve a SIP revision submitted on September 26, 2001, to two sections of 173-422 WAC Motor Vehicle Emission Inspection, to provide an inspection schedule for motor vehicles between 5 and 25 years old.

VII. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve State law as meeting Federal requirements and imposes no additional requirements beyond those imposed by State law. Accordingly, the Administrator certifies that this proposed rule will not have a significant economic impact on a substantial number of small entities under the Regulatory Flexibility Act (5 U.S.C. 601 et seq.). Because this rule proposes to approve pre-existing requirements under State law and does not impose any additional enforceable duty beyond that required by State law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the National Government and the States, or on the distribution of power and responsibilities among the various levels of government, as specified in Executive Order 13132 (64 FR 43255, August 10, 1999). This action merely proposes to approve a State rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Intergovernmental regulations, Reporting and recordkeeping requirements.

Dated: March 1, 2005.
Ronald A. Kreizenbeck,
Acting Regional Administrator, Region 10.

[FR Doc. 05-4470 Filed 3-7-05; 8:45 am]

BILLING CODE 6560-50-P